DEPARTMENT OF TRANSPORTATION

Federal Motor Carrier Safety Administration

Solicitation of Applications for Fiscal Year (FY) 2007, Commercial Motor Vehicle (CMV) Operator Safety Training Grant Opportunity

AGENCY: Federal Motor Carrier Safety Administration (FMCSA), DOT.

ACTION: Notice.

SUMMARY: FMCSA announces that it has published an opportunity to apply for FY 2007 CMV Operator Safety Training Grant Opportunity funding on the grants.gov Web site (http://www.grants.gov). Section 4134 of the Safe, Accountable, Flexible, Efficient Transportation Equity Act: A Legacy For Users (SAFETEA-LU) establishes the CMV Operator Safety Training Grant Opportunity program. The legislation requires grant recipients to train drivers and future drivers in the safe operation of CMVs, as defined in Section 31301 of Title 49, United States Code. Priority will be given to regional or multi-state educational or nonprofit associations serving economically distressed regions of the United States. Eligible awardees also can include State governments, local governments, and accredited post-secondary educational institutions (public or private) such as colleges, universities, vocational-technical schools and truck driver training schools. To apply for funding, applicants must be registered with grants.gov. Registration with grants.gov may take two to five days before the system will allow you to apply for grants using the grants.gov Web site (http://www.grants.gov/applicants/get_registered.jsp). Submit application in accordance with the instructions provided. Applications for grant funding must be submitted electronically to the FMCSA through the grants.gov Web site. The CFDA number for MCSAP is 20.235.

DATES: FMCSA will initially consider funding of applications submitted by January 31, 2007 by qualified applicants. If additional funding remains available, applications submitted after January 31, 2007 will be considered on a case-by-case basis. Funds will not be available for allocation until such time as FY2007 appropriations legislation is passed and signed into law. Funding is subject to reductions resulting from obligation limitations or rescissions as specified in SAFETEA-LU or other legislation.

FOR FURTHER INFORMATION CONTACT: Mr. Art L. Williams, Federal Motor Carrier Safety Administration, Office of Safety Programs, State Programs Division (MC-sESS), 202-366-3695, 400 Seventh Street SW., Room 8314, Washington, DC 20590. Office hours are from 7:30 a.m. to 4 p.m., EST., Monday through Friday, except Federal holidays.

Issued on: December 11, 2006.
John H. Hill,
Administrator.

[FR Doc. E6-21458 Filed 12-15-06; 8:45 am]

BILLING CODE 4910-EX-P